DEPARTMENT OF TRANSPORTATION

Federal Aviation Administration

Seventeenth Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held September 8 through September 13, 2013, from 9:00 a.m. to 5 p.m.

ADDRESSES: The meeting will be held by Irish Aviation Authority (IAA), IAA Headquarters, The Times Building, 11-12 D'Olier Street, Dublin 2. Ireland

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 217—Aeronautical Databases held jointly with EUROCAE WG-44—Aeronautical Databases. The agenda will include the following:

Monday, September 9—Opening Plenary Session

• Co-Chairmen's remarks and introductions

• Housekeeping

• Approve minutes from 16th meeting

• Review and approve meeting agenda for 17th meeting

• Schedule and working arrangements for this week

• Review of joint WG-1/WG-2 Action Items

• Update on WorkSpace

Monday thru Thursday, Sep 9 through Sep 12—Working Group Sessions

Working Group One (WG1)—DO-200

Working Group Two (WG2)—DO-272/DO-276/DO-291

• Terms of Reference Date Change Discussion

• Report on July Meeting- European Committee for Standardization (CEN), Technical Committee (TC) 377 “Air Traffic Management” and WG2 “Aerodrome Mapping Data”

Friday, Sep 13—Closing Plenary Session (9 a.m. to Noon)

• Presentation of WG1 and WG2 conclusions

• Working arrangements for the remaining work

• Review of action items

• Next meetings, dates and locations

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 14, 2013.
Paige L. Williams,
Management Analyst, Business Operations Group, ANG-A12, Federal Aviation Administration.

[FR Doc. 2013-20423 Filed 8-20-13; 8:45 am]

BILLING CODE 4910-13-P